DEPARTMENT OF HOMELAND SECURITY

Coast Guard

[Docket No. USCG-2010-0212]

Interagency Coordinating Committee on Oil Pollution Research (ICCOPR); Public Meeting

AGENCY: Coast Guard, DHS.

ACTION: Notice of meeting.

SUMMARY: The Interagency Coordinating Committee on Oil Pollution Research (ICCOPR) will hold a public meeting in Seattle, Washington to hear comments on the priorities of oil pollution research, including projects in the Arctic environment. This meeting is designed to give the public an opportunity to provide statements as to where the ICCOPR, a Federally mandated committee, should focus their efforts concerning oil pollution research. This meeting will be open to the public.

DATES: The Committee will meet on Wednesday, May 19, 2010, from 9 a.m. to 12 p.m. (noon). This meeting may close early if all business is finished. Written material (no more than 2 full pages) and requests to make brief oral presentations should reach the Coast Guard on or before May 7, 2010. Requests to have a copy of your material (no more than 2 full pages) distributed to each member of the committee should reach the Coast Guard on or before May 7, 2010.

ADDRESSES: The Committee will meet in Grand Ballroom #1, The Westin Seattle, 1900 Fifth Avenue, Seattle, Washington 98101. Send written material (no more than 2 full pages) and requests to make brief oral presentations to Lieutenant Tracy Wirth, Assistant to the Chairman of the ICCOPR at Commandant (CG-533), Office of Incident Management and Preparedness, U.S. Coast Guard, 2100 2nd St., SW., STOP 7363, Washington, DC 20593-7363. A transcript of this meeting will be provided in the online docket. In addition, this notice and documents identified in the Supplementary Information section as being available in the docket, may be viewed in our online docket, USCG-2010-0212, at http://www.regulations.gov.

FOR FURTHER INFORMATION CONTACT: If you have questions on this notice or the meeting, contact Lieutenant Tracy Wirth, Assistant to the Chairman of the ICCOPR, telephone 202-372-2236.

If you have questions on viewing the docket, call Renee V. Wright, Program Manager, Docket Operations, telephone 202-366-9826.

SUPPLEMENTARY INFORMATION:

Background and Purpose

Section 7001(a) of the Oil Pollution Act of 1990 (OPA 90) established the Interagency Coordinating Committee on Oil Pollution Research. The purpose of the Interagency Committee is twofold: (1) To prepare a comprehensive, coordinated Federal oil pollution research and development (R&D) plan; and (2) to promote cooperation with industry, universities, research institutions, State governments, and other nations through information sharing, coordinated planning, and joint funding of projects. The Interagency Committee was commissioned with 13 members and is chaired by the Coast Guard. Membership includes:

Department of Commerce (DOC)

—National Oceanic and Atmospheric Administration (NOAA).

—National Institute of Standards and Technology (NIST).

Department of Energy (DOE)

Department of Interior (DOI)

—Minerals Management Service (MMS).

—United States Fish and Wildlife Service (USFWS).

Department of Transportation (DOT)

—Maritime Administration (MARAD).

—Pipeline and Hazardous Materials Safety Administration (PHMSA).

Department of Defense (DoD)

—United States Army Corps of Engineers (USACE).

—United States Navy (USN).

Environmental Protection Agency (EPA)

National Aeronautics and Space Administration (NASA)

Department of Homeland Security (DHS)

—United States Coast Guard (USCG).

—Federal Emergency Management Agency (FEMA).

—United States Fire Administration (USFA).

Section 7001(b) of the Oil Pollution Act of 1990 required the Interagency Committee to prepare an Oil Pollution Research and Technology Plan. The Interagency Committee prepared the original Oil Pollution Research and Development (R&D) Technology Plan to define the roles of each Federal agency involved in oil spill research and development. The plan was submitted to Congress in April 1992 and later reviewed by the National Research Council's Committee on Oil Spill Research and Development under the auspices of the Marine Board. Using input from the Marine Board, the Committee revised the plan in May 1993 to address spill prevention, human factors, and the field testing/demonstration of developed response technologies. The current version of the plan, still based on Marine Board recommendations, is dated April 1997. The Interagency Committee is coordinating an update of the Technology Plan during the next two fiscal years.

Tentative Meeting Agenda

The agenda for the May 19, 2010 Committee meeting is as follows:

(1) 9 a.m.: Convene: Welcome and Opening Comments by the ICCOPR Chairman; Captain Anthony S. Lloyd, U.S. Coast Guard.

(2) 9:15 a.m.: ICCOPR Background and Overview Brief.

(3) 9:45 a.m.: Public Comment Period.

(4) 11:45 a.m.: Closing Remarks: Captain Anthony S. Lloyd, U.S. Coast Guard, Chairman.

(5) 12 p.m. (noon): Adjourn.

ICCOPR Biennial Report

The Interagency Coordinating Committee on Oil Pollution Research Biennial Report for Fiscal Years 2008 and 2009, which will be discussed by the Committee, may be viewed in our online docket. To view the Report, this notice, and the transcript of the meeting once it is concluded, go to http://www.regulations.gov, enter the docket number for this notice (USCG-2010-0212) in the “Keyword” box, and then click “Search.”

If you do not have access to the Internet, you may view the docket online by visiting the Docket Management Facility in Room W12-40 on the ground floor of the Department of Transportation West Building, 1200 New Jersey Avenue, SE., Washington, DC 20590, between 9 a.m. and 5 p.m., Monday through Friday, except Federal holidays. We have an agreement with the Department of Transportation to use the Docket Management Facility.

Procedural

This meeting is open to the public. Please note that the meeting may close early if all business is finished. Members of the public may make brief oral presentations during the meeting. If you would like to make an oral presentation at a meeting, please notify Lieutenant Tracy Wirth where listed under the ADDRESSES section of this notice no later than May 7, 2010. Written material (no more than 2 full pages) for distribution at a meeting should reach the Coast Guard no later than May 7, 2010. If you would like a copy of your material (no more than 2 full pages) distributed to each member of the committee in advance of a meeting, please submit 25 copies to Lieutenant Tracy Wirth no later than May 7, 2010.

The transcript of the meeting, including all comments received during the meeting, will be posted to http://www.regulations.gov and will include any personal information you have provided. You may review a Privacy Act notice regarding our public dockets in the January 17, 2008, issue of the Federal Register (73 FR 3316).

Information on Services for Individuals With Disabilities

For information on facilities or services for individuals with disabilities or to request special assistance at the meeting, contact the Chairman as soon as possible.

Authority: This notice is issued under authority of 5 U.S.C. 552(a).

Dated: April 9, 2010.
A.S. Lloyd,
Captain, U.S. Coast Guard, Chief, Office of Incident Management & Preparedness.

[FR Doc. 2010-9017 Filed 4-19-10; 8:45 am]

BILLING CODE 9110-04-P